DEPARTMENT OF HOUSING AND URBAN DEVELOPMENT

[Docket No. FR-5921-N-15]

Privacy Act of 1974; Notice of a Computer Matching Program Between the Department of Housing and Urban Development (HUD) and the Department of Homeland Security, Federal Emergency Management Agency (DHS/FEMA)

AGENCY: Office of Administration, HUD.

ACTION: Notice of a Computer Matching Program Between HUD and DHS/FEMA.

SUMMARY: In accordance with the Privacy Act of 1974, as amended by the Computer Matching and Privacy Protection Act of 1988, and the Office of Management and Budget (OMB) Guidelines on the Conduct of Matching Programs (54 FR 25818 (June 19, 1989); and OMB Bulletin 89-22, “Instructions on Reporting Computer Matching Programs to the Office of Management and Budget (OMB), Congress and the Public,” HUD is issuing a public notice of its intent to conduct a recurring computer matching program with DHS/FEMA.

The purpose of this CMA is to ensure that eligible housing assistance applicants do not receive a duplication of housing benefits from both DHS/FEMA and HUD, as required by section 312 of the Robert T. Stafford Disaster Relief and Emergency Assistance Act, as amended, and as may be required by statutes making available supplemental appropriations for activities eligible under Title I of the Housing and Community Development Act of 1974, as amended (CDBG-DR Appropriations Acts), and by the notices published in the Federal Register that govern these CDBG-DR Appropriations Acts, including the Clarification of Duplication of Benefits Requirements Under the Stafford Act for Community Development Block Grant (CDBG) Disaster Recovery Grantees at 76 FR 71060 (Nov. 16, 2011).

DATES: Effective Date: The effective date of the matching program shall begin October 14, 2016, or at least 40 days from the date that copies of the Computer Matching Agreement, signed by both HUD and DHS/FEMA Data Integrity Boards (DIBs), are sent to OMB and Congress, whichever is later, provided that no comments that would result in a contrary determination are received.

Comments Due Date: October 14, 2016.

ADDRESSES: Interested persons are invited to submit comments regarding this notice to the Rules Docket Clerk, Office of General Counsel, Department of Housing and Urban Development, 451 Seventh Street, Room 10110, SW., Washington, DC 20410. Communications should refer to the above docket number and title. A copy of each communication submitted will be available for public inspection and copying between 8:00 a.m. and 5:00 p.m. weekdays at the above address.

FOR FURTHER INFORMATION CONTACT: Contact the “Recipient/Source Agency” Helen Goff Foster, Departmental Privacy Officer, Department of Housing and Urban Development, 451 Seventh Street SW., Room 10139, Washington, DC 20410, telephone number (202) 402-6147 or the “Recipient/Source Agency” Tammi Hines, Acting Privacy Director, DHS/FEMA, 500 C Street SW., Washington, DC 20479, telephone number (202) 212-5100. [These are not a toll-free numbers.] A telecommunication device for hearing- and speech-impaired individuals (TTY) is available at (800) 877-8339 (Federal Relay Service).

SUPPLEMENTARY INFORMATION: The Computer Matching program seeks to ensure that applicants for HUD Housing Assistance and DHS/FEMA Individuals and Households Program, which provides Other Needs Assistance (ONA) and Housing Assistance (HA), do not receive a duplication of housing benefits. This will be accomplished by matching specific DHS/FEMA disaster applicant data with HUD Inventory Management System/PIH Information Center (IMS/PIC) tenant data, Enterprise Income Verification (EIV) tenant data and Tenant Rental Assistance Certification System (TRACS) data that HUD is authorized to collect for its rental housing assistance programs. DHS/FEMA will provide a database with Disaster Recovery Assistance (DRA) records, which only include the necessary data elements needed for the matching. HUD will provide Household Member data from the EIV, IMS/PIC, and TRACS databases. DHS/FEMA and HUD will exchange data, defined in the Interface Control Document, using secured web services and with all matching conducted internally.

Reporting of Matching Program

In accordance with Public Law 100-503, the Computer Matching and Privacy Protection Act of 1988 as amended, and OMB Bulletin 89-22, “Instructions on Reporting Computer Matching Programs to the Office of Management and Budget (OMB), Congress and the Public,” copies of this notice and report are being provided to the U.S. House Committee on Oversight and Government Reform, the U.S. Senate Homeland Security and Governmental Affairs Committee, and OMB.

Authority

Purpose. This computer matching agreement, hereinafter referred to as “agreement” governs a matching program between the Department of Homeland Security/Federal Emergency Management Agency and the Department of Housing and Urban Development. The purpose of the matching program is to:

(1) Establish or verify initial or continuing eligibility for DHS/FEMA disaster assistance programs;

(2) Verify compliance with the statutory or regulatory program requirements; and

(3) Recoup payments or delinquent debts under a herein identified program. Specifically, DHS/FEMA and HUD seek to ensure that individuals do not receive duplicate or erroneous disaster assistance for the same disaster or emergency and/or housing benefits from either agency.

Legal Authority. This agreement is executed in compliance with the Privacy Act of 1974 (5 U.S.C. 552a, as amended) and the statutes, regulations, notices and guidance promulgated thereunder.

A. The Robert T. Stafford Disaster and Emergency Assistance Act (Pub. L. 93-288), as amended at 42 U.S.C. 5121 et seq., requires each federal agency that administers any program that provides financial assistance as a result of a major disaster or emergency, to assure that no individual or entity receives duplicate financial assistance under any program or insurance, or any other source. Furthermore, the Act requires DHS/FEMA or HUD (whichever agency provided the duplicate assistance) to recover all amounts from the recipient of the financial assistance (42 U.S.C. 5155).

B. Pursuant to the Robert T. Stafford Disaster Relief and Emergency Assistance Act (42 U.S.C. 5174(i), as amended), DHS/FEMA is directed and authorized to “develop a system, including an electronic database”, to:

1. Verify the identity and address of recipients of assistance to provide reasonable assurance that payments are made only to an individual or household that is eligible for such assistance;

2. Minimize the risk of making duplicative payments or payments for fraudulent claims;

3. Collect any duplicate payment on a claim, or reduce the amount of subsequent payments to offset the amount of any such duplicate payment;

4. Provide instructions to recipients of assistance regarding the proper use of any such assistance, regardless of how such assistance is distributed; and

5. Conduct an expedited and simplified review and appeal process for an individual or household whose application for assistance is denied

C. DHS/FEMA is authorized to provide States (impacted by disasters), in which the individuals and households are located, with access to the electronic records of individuals and households receiving assistance in order for the States to make available any additional State and local assistance to the individuals and households (42 U.S.C. 5174(f)(2).

D. Pursuant to the Debt Collection Improvement Act of 1996 (31 U.S.C. 3325(d) and 31 U.S.C. 7701(c)(1)), federal agencies are required to collect the taxpayer identification number of each person who receives payments from the federal government; and each person doing business with the federal government is required to furnish his or her taxpayer's identification number.

1. For the purposes of 31 U.S.C. 7701, a person is considered to be doing with business with the federal government if the person is

i. A lender or services in a federal guaranteed or insured loan program administered by a federal agency;

ii. An applicant for, or recipient of, a federal license permit, right-of-way, grant or benefit payment administered by a federal agency;

iii. A contractor of a federal agency;

iv. Assessed a fine, fee, royalty or penalty by a federal agency;

v. In a relationship with a federal agency that may give rise to a receivable due to that agency, such as a partner of a borrower in or a guarantor of a federal direct or insured loan administered by the federal agency.

Each federal agency must inform each person required to disclose his or her taxpayer identification number the agency's intent to use such number for purposes of collecting and reporting on any delinquent amounts arising out of such person's relationship with the federal government.

E. Fraud, waste, and abuse prevention efforts pursuant to the aforementioned statutory authorities are also applicable to pilot programs designed to provide alternative or additional federal disaster assistance programs (6 U.S.C. 776-777).

F. Pursuant to section 239 of Public Law 111-8, Omnibus Appropriations Act, 2009 (123 Stat. 981, March 11, 2009), the Disaster Housing Assistance Programs administered by HUD are considered a HUD program under section 904 of the McKinney Act for the purpose of income verification and matching.

G. HUD's Routine Use Inventory notice published in the Federal Register on December 31, 2015 (80 FR 81837) provides individuals with notice of HUD's intended use of information contained within the following system of records:

1. Inventory Management Systems (IMS), also known as the Public and Indian Housing Information Center (PIC), HUD/PIH.01 (77 FR 22337, April 13, 2012).

2. Enterprise Income Verification (EIV), HUD/PIH-5 (74 FR 45235, September 1, 2009).

3. Tenant Housing Assistance and Contract Verification Data, also known as the Tenant Rental Assistance Certification System (TRACS), HUD/H-11 (62 FR 11909, March 13, 1997).

Specifically, pursuant to routine use 6 (within HUD's Routine Use Inventory notice (80 FR 81837)), HUD may disclose records contained in the aforementioned systems of records for the purpose of preventing fraud, waste and abuse within any federal program. HUD may disclose records to federal agencies, non-federal entities, their employees, and agents (including contractors, their agents or employees; employees or contractors of the agents or designated agents); or contractors, their employees or agents with whom HUD has a contract, service agreement for the purpose of:

(1) Detection, prevention, and recovery of improper payments;

(2) Detection and prevention of fraud, waste, and abuse in major federal programs administered by a federal agency or non-federal entity;

(3) Detection of fraud, waste, and abuse by individuals in their operations and programs, but only to the extent that the information shared is necessary and relevant to verify pre-award and prepayment requirements prior to the release of federal funds, prevent and recover improper payments for services rendered under programs of HUD or of those federal agencies and non-federal entities to which HUD provides information under this routine use.

H. HUD regulations (24 CFR 982.352(c) prohibits a family from receiving the benefit of tenant-based assistance while receiving the benefit of any of the following forms of other housing subsidy, for the same unit or for a different unit:

1. Public or Indian housing assistance;

2. Other Section 8 assistance (including other tenant-based assistance);

3. Assistance under former Section 23 of the United States Housing Act of 1937 (before amendment by the Housing and Community Development Act of 1974);

4. Section 101 rent supplements;

5. Section 236 rental assistance payments;

6. Tenant-based assistance under the HOME program;

7. Rental assistance payments under Section 521 of the Housing Act of 1949 (a program of the Rural Development Administration);

8. Any local or state rent subsidy;

9. Section 202 supportive housing for the elderly;

10. Section 811 supportive housing for persons with disabilities;

11. Section 202 projects for non-elderly persons with disabilities (Section 162 assistance); or

12. Any other duplicative federal, state, or local housing subsidy, as determined by HUD. For this purpose, “housing subsidy” does not include the housing component of a welfare payment, a social security payment received by the family, or a rent reduction because of a tax credit.

I. The following programs are covered under this computer matching agreement:

1. DHS/FEMA housing assistance provided through its Individuals and Households Program (IHP) as defined in Section III.

2. HUD rental assistance programs identified at 24 CFR 5.233 and the Disaster Housing Assistance Program.

Objectives To Be Met by the Matching Program

The objective of this CMA is to ensure that eligible housing assistance applicants do not receive a duplication of housing benefits from DHS/FEMA and HUD.

Description of the Match

An active survivor completes a FEMA assistance registration after a disaster. The NEMIS database stores data provided by the disaster victim on a FEMA 90-69 online form. FEMA processes the registration. During the FEMA processing period, the registration status will change status to `VR' (Valid Registration) in NEMIS. This means that the registration has been processed through the data completeness and identity verification. The FEMA registration data is sent to HUD for initial verification via a secure web service. HUD will match the IA/IHP data elements to its EIV, IMS/PIC, and TRACS data. There are two scenarios for the HUD match process. The scenarios are:

1. Positive HUD match—HUD finds a match in their respective system for the DHS/FEMA data provided:

a. If a record submitted by DHS/FEMA to HUD results in a match by HUD, DHS/FEMA becomes a recipient of HUD Housing Assistance information;

b. DHS/FEMA will use the information it receives from HUD to independently evaluate and determine its applicants' eligibility for its housing programs under 42 U.S.C. 5174(c)(1);

c. DHS/FEMA will compare the HUD data with the FEMA registration data using the survivor's social security number and unique registration ID. The comparison process will be an automated process in NEMIS. The IA program will also be able to manually verify the comparison results using database queries. The registration ID is required to ensure the FEMA and HUD data can be aggregated in NEMIS as it is a unique primary key for the separate data sets;

d. Once DHS/FEMA confirms that match, the complete data set for the potential duplication of housing benefits is sent to FEMA's Program Review process for manual evaluation of any duplication of benefits. If FEMA review staff determines that there is a duplication of benefits, the duplicated amount is deducted from the eligible award. FEMA applicants receive a letter that indicates the amount of their eligible award and their ability to appeal.

2. No HUD match—HUD does not find a match in their respective system for the DHS/FEMA data provided:

a. If the initial verification record submitted by DHS/FEMA to HUD does not result in a match by HUD, DHS/FEMA becomes the source agency and sends additional FEMA Head of Household IA/IHP data to HUD to assist HUD in the future if those same applicants apply for HUD benefits. This additional information will aid HUD in making an appropriate determination as to whether the applicant qualifies or not for assistance under the various HUD programs if they have or have not received benefits from FEMA, since HUD does not have access to FEMA systems, and thus eliminate the need for future data requests of the same data. The additional data is not part of the initial verification process;

b. The FEMA-HUD data exchange process is complete and the transmission is terminated;

c. As part of the Duplication of Housing Benefits effort, HUD may share FEMA data via a secure web-service with state and local CDBG grantees with whom HUD has an existing ISAA as per the Privacy Statement 9420.1 Appendix B/C. CDBG grantees can be municipalities as well as individuals that receive federal money to assist low to mid-level income families with a variety of assistance. In order to avoid duplication of benefits between HUD/FEMA and the individual CDBG grantee, the information may need to be shared from HUD to state and local municipalities;

d. If the State and Local grantees require targeted data from FEMA which is not part of routine use or part of the Duplication of Housing Benefits effort, FEMA and the respective entity will need to engage in ISAA documentation. Once the ISAA is approved, the data sharing mechanism will determine if a CMA is needed between FEMA and the respective entity i.e. automated system vs. manual data delivery.

Records To Be Matched

HUD

The HUD records shared as part of this matching program reside in HUD's EIV, IMS/PIC, and TRACS systems, which include data from the IMS/PIC the HUD/PIH-5 system of record, 74 FR 45,235 (Sep. 1, 2009); and the HUD/H-11 system of records, 62 FR 11,909 (Mar. 13, 1997).

DHS/FEMA

The DHS/FEMA records shared as part of this CMA resides in DHS/FEMA's Disaster Recovery Assistance Files system of records, as provided by the DHS/FEMA—008 SORN, 74 FR 25,282 (April 30, 2013); through its National Emergency Management Information System—Individual Assistance (NEMIS-IA).

Notice Procedures

The Privacy Act requires Agreements to specify procedures for notifying applicants/recipients at time of registration and other periodic notice as directed by the Data Integrity Board of such agency (subject to guidance provided by the Director of OMB pursuant to subsection (v)) to applicants for and recipients of financial assistance or payments under Federal benefit programs.

DHS/FEMA and HUD have both published system of records notices informing applicants/recipients that their information may be subject to verification through matching programs per 5 U.S.C. 552a(o)(1)(D). As further required by the Privacy Act, DHS/FEMA and HUD shall make a copy of the Computer Matching Agreement available to the public upon request.

DHS/FEMA Recipients

DHS/FEMA Form 009-0-1 “Paper Application/Disaster Assistance Registration,” DHS/FEMA Form 009-0-3, “Declaration and Release” (both contained in OMB ICR No. 1660-0002), and various other forms used for financial assistance benefits immediately following a declared disaster, use a Privacy Act statement (5 U.S.C. 552a(e)(3)) to provide notice to applicants regarding the use of their information. The Privacy Act statement is read to applicants from DHS/FEMA call center employees and is displayed and agreed to by applicants applying over the internet. Also, DHS/FEMA Form 009-0-3 requires the applicant's signature in order to receive financial assistance.

Additionally, DHS/FEMA provides notice via its Disaster Assistance Improvement Program Privacy Impact Assessment and DHS/FEMA's Privacy Act System of Records Notice, DHS/FEMA—008 Disaster Recovery Assistance Files, 78 FR 25282 (Apr. 30, 2013). DHS/FEMA has published a Notice concerning routine use disclosures in the Federal Register to inform individuals that a computer match may be performed to determine a loan applicant's credit status with the Federal Government.

Categories of Records/Individuals Involved

Data elements disclosed in this computer matching are Personally Identifiable Information (PII) from the specified systems of record. The data elements supplied are as follows:

• FEMA Registration ID.

• Disaster Number.

• Social Security Number (SSN)—the head of household SSN.

• First and Last Name and Middle Initial of the head of household.

• DOB—date of birth of head of household.

• Damaged Address Street Address—the head of household's damaged street address.

Period of the Match

Matching will begin at least 40 days from the date that copies of the Computer Matching Agreement, signed by HUD and DHS/FEMA DIBs, are sent to both Houses of Congress and OMB; or at least 30 days from the date this notice is published in the Federal Register, whichever is later, provided that no comments that would result in a contrary determination are received. The matching program will be in effect and continue for 18 months with an option to renew for 12 additional months unless one of the parties to the Agreement advises the other in writing to terminate or modify the Agreement.

Authority: 5 U.S.C. 552a; 88 Stat. 1896; 42 U.S.C. 3535(d).

Dated: August 26, 2016.
Helen Goff Foster,
Chief Privacy Officer/Senior Agency Official for Privacy.

[FR Doc. 2016-22006 Filed 9-13-16; 8:45 am]

BILLING CODE 4210-67-P